DEPARTMENT OF TRANSPORTATION

Federal Aviation Administration

14 CFR Parts 91, 121, 125 and 135

[Docket No.: FAA-2012-0953]

Policy Statement on Occupational Safety and Health Standards for Aircraft Cabin Crewmembers

AGENCY: Federal Aviation Administration (FAA), DOT.

ACTION: Notice of availability; request for comments.

SUMMARY: This notice announces the availability of a proposed policy statement regarding the regulation of some occupational safety and health conditions affecting cabin crewmembers on aircraft by the Occupational Safety and Health Administration (OSHA). This policy statement will enhance occupational safety and health in the aircraft cabin by establishing the extent to which OSHA requirements may apply to the working conditions of aircraft cabin crew while they are onboard aircraft in operation.

DATES: Send comments on or before January 7, 2013.

ADDRESSES: Send comments identified by docket number FAA-2012-0953 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this proposed policy statement, contact Gene Kirkendall, Part 121 Air Carrier Operations Branch (AFS-220), Flight Standards Service, Federal Aviation Administration, 800 Independence Avenue SW., Washington, DC 20591; telephone (202) 267-8166; email Gene.Kirkendall@faa.gov.

SUPPLEMENTARY INFORMATION:

Comments Invited

The FAA invites interested persons to participate by submitting written comments, data, or views on the policy statement. The most helpful comments reference a specific portion of the policy statement, explain the reason for any recommended change, and include supporting data. To ensure the docket does not contain duplicate comments, commenters should send only one copy of written comments, or if comments are filed electronically, commenters should submit only one time.

The FAA will file in the docket all comments it receives, as well as a report summarizing each substantive public contact with FAA personnel concerning this notice. The FAA will consider comments filed after the comment period has closed if it is possible to do so without incurring expense or delay. The proposed policy statement is available for review in the assigned docket at http://www.regulations.gov.

Background

On July 10, 1975, the FAA published a notice in the Federal Register setting forth the FAA's determination that its authority to promote the safety of civil aircraft operations included occupational safety and health for aircraft crewmembers. The FAA Modernization and Reform Act of 2012 currently requires the FAA to initiate development of a policy statement to set forth the circumstances in which the requirements of the OSHA may be applied to crewmembers while working in an aircraft. Since this proposed policy statement changes an existing FAA policy that has been in effect for 37 years, and this new policy would change the extent of FAA's jurisdiction over cabin crewmembers, FAA believes that the aviation industry as well as all interested parties should have the opportunity to comment on the proposed policy statement before it is implemented.

Therefore, this notice is requesting comment on the proposed policy statement which is available for review in the assigned docket.

Issued in Washington, DC, on November 29, 2012.
John M. Allen,
Director, Flight Standards Service.

[FR Doc. 2012-29631 Filed 12-6-12; 8:45 am]

BILLING CODE 4910-13-P